DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Targeted Capacity Expansion Grants for Jail Diversion Program Evaluation—Additional Trauma Measures—(OMB No. 0930-0277)—Revision

The Substance Abuse and Mental Health Services Administration's (SAMHSA), Center for Mental Health Services (CMHS) has implemented the Targeted Capacity Expansion Grants for Jail Diversion Programs. The Program currently collects client outcome measures from program participants who agree to participate in the evaluation. Data collection consists of interviews conducted at baseline, 6- and 12-month intervals.

The current proposal requests:

1. Adding a new instrument, the PTSD Checklist (PCL), as a measure of trauma-specific symptoms to the baseline, 6- and 12-month interviews.

2. Extending the use of DC Trauma Screen, currently administered only at baseline, to be included in the 6- and 12-month interviews. The DC Trauma Screen examines the prevalence of experience of trauma within general types.

The PCL and the DC Trauma Screen each take 5 minutes to complete. Including these measures would add 5 minutes to the length of the baseline interview and ten minutes to the length of the 6- and 12-month interviews.

New grantees were awarded on April 30, 2006 under the TCE Grants for Jail Diversion program and will commence data collection efforts in FY 2007. The following tables summarize the burden for the data collection.

CY 2007 Annual Reporting Burden for the Additional Measures
Data collection activity | Number of respondents | Responses per respondent | Average hours per response | Annual hour burden
Client Interviews:
Baseline Interview | 220 | 1 | .83 | 183
6-month Interview | 90 | 1 | .92 | 83
12-month Interview | 10 | 1 | .92 | 9
Total: | 320 | 3 |  | 275

CY 2008 Annual Reporting Burden for the Additional Measures
Data collection activity | Number of respondents | Responses per respondent | Average hours per response | Annual hour burden
Client Interviews:
Baseline Interview | 300 | 1 | 0.83 | 249
6-month Interview | 210 | 1 | 0.92 | 193
12-month Interview | 150 | 1 | 0.92 | 138
Total: | 660 | 3 |  | 580

CY 2009 Annual Reporting Burden for the Additional Measures
Data collection activity | Number of respondents | Responses per respondent | Average hours per response | Annual hour burden
Client Interviews:
Baseline Interview | 70 | 1 | 0.83 | 58
6-month Interview | 70 | 1 | 0.92 | 64
12-month Interview | 58 | 1 | 0.92 | 53
Total: | 198 | 3 |  | 175

CY 2010 Annual Reporting Burden for the Additional Measures
[calculated up to the anticipated grant end date of April 30, 2010]
Data collection activity | Number of respondents | Responses per respondent | Average hours per response | Annual hour burden
Client Interviews:
Baseline Interview | 0 | 1 | 0.83 | 0
6-month Interview | 20 | 1 | 0.92 | 18
12-month Interview | 15 | 1 | 0.92 | 14
Total: | 35 | 3 |  | 32

Written comments and recommendations concerning the proposed information collection should be sent by April 23, 2007 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: March 2, 2007.
Elaine Parry,
Acting Director, Office of Program Services.

[FR Doc. E7-5214 Filed 3-21-07; 8:45 am]

BILLING CODE 4162-20-P